GENERAL SERVICES ADMINISTRATION

Public Building Service; Notice of Availability; Master Site Plan and Environmental Impact Statement for the Denver Federal Center, Lakewood, CO

AGENCY: Public Building Service, General Services Administration.

ACTION: Notice of availability.

SUMMARY: In accordance with the National Environmental Policy Act of 1969, and the President's Council on Environmental Quality Regulations (40 CFR parts 1500-1508), as implemented by General Services Administration (GSA) Order PBS P 1095.4D, GSA announces its Notice of Availability (NOA) of the Proposed Master Site Plan and Draft Environmental Impact Statement (DEIS) for the Denver Federal Center in Lakewood, Colorado.

DATES: Public Meeting: Public meetings will be conducted to provide the public with an opportunity to present comments, ask questions, and discuss concerns regarding the DEIS with GSA representatives. GSA will host public meetings on Wednesday, May 16 from 11 a.m. to 1 p.m. at Building 41, Denver Federal Center, Lakewood, CO, and again on May 16 from 4 p.m. to 8 p.m. at Creighton Middle School, Lakewood, CO, and on Thursday May 17 from 11 a.m. to 1 p.m. at Building 25, Denver Federal Center, Lakewood, CO. More specific information about the meetings will be noticed in local media and on the GSA Web site at http://www.gsa.gov/dfcsiteplan.

ADDRESSES: To obtain a copy of the document, visit the web site at http://www.gsa.gov/dfcsiteplan and follow the instructions.

FOR FURTHER INFORMATION CONTACT: Lisa Morpurgo by telephone at (303) 236-8000 ext. 5039 or by e-mail at http://www.dfcsiteplan@gsa.gov.

SUPPLEMENTARY INFORMATION: Since 1997, when the last Master Site Plan was completed, potential development and redevelopment opportunities and the changing real estate market have been identified. The analysis in EIS includes a review of all existing buildings on site, all existing and planned infrastructure systems and improvements, necessary capital investment needs and all vacant land. A primary focus is on short and long term planning for Federal agency needs and requirements. A No Action alternative is studied that to evaluate the consequences of not implementing an action alternative. This alternative is included to provide a basis for comparison to the action alternatives described above as required under NEPA regulations (40 CFR 1002.14(d)).

The EIS addressed the potential impacts of three alternatives considered: The Federal Quad Alternative is defined by the use of a central “Quad” located in the center of the site. A mixed use center would be encouraged in this area with enhanced streetscape woven into the fabric of the surrounding neighborhoods and commercial districts with road and land use connections; the Federal Mall Alternative creates a linear “Federal Mall” which would enhance the aesthetics of the site to create a grand entry and pedestrian access from the western boundary into the heart of the central core to an which open space square would serve as an amenity to the Mall district as well as other surrounding uses; and No-Action Alternative (currently planned upgrades would continue).

GSA invites individuals, organizations and agencies to submit comments concerning the scope of the EIS. The public review period starts with the publication of this notice in the Federal Register and will continue for forty five (45) days from the date of this notice. GSA will consider all comments received or postmarked by June 11, 2007. The GSA will consider and respond to comments received on the Draft EIS in preparing the Final EIS.

GSA expects to issue a Final EIS by fall, 2007 at which time its availability will be announced in the Federal Register and local media. A “No Action” comment period will commence upon the publication of the Record of Decision.

Public meetings will be conducted to provide the public with an opportunity to present comments, ask questions, and discuss concerns regarding the DEIS with GSA representatives. GSA will host public meetings on Wednesday, May 16 from 11 a.m. to 1 p.m. at Building 41, Denver Federal Center, Lakewood, CO, and again on May 16 from 4 p.m. to 8 p.m. at Creighton Middle School, Lakewood, CO, and on Thursday May 17 from 11 a.m. to 1 p.m. at Building 25, Denver Federal Center, Lakewood, CO. More specific information about the meetings will be noticed in local media and on the GSA Web site at http://www.gsa.gov/dfcsiteplan.

Dated: April 18, 2007.
Lisa Dorsey Morpurgo,
Senior Project Manager, General Services Administration, DFC Service Center, PBS, Rocky Mountain Region.

[FR Doc. E7-8152 Filed 4-26-07; 8:45 am]

BILLING CODE 6820-BK-P